DEPARTMENT OF TRANSPORTATION

Surface Transportation Board

[STB Docket No. AB-43 (Sub-No. 182X)]

Illinois Central Railroad Company—Abandonment Exemption—in Grenada County, MS

Illinois Central Railroad Company (IC) ¹ has filed a notice of exemption under 49 CFR 1152 Subpart F—Exempt Abandonments to abandon a 1.20-mile line of railroad between milepost 311.90 and milepost 313.10, in Grenada, Grenada County, MS.² The line traverses United States Postal Service Zip Code 38901.

¹ IC is a wholly owned subsidiary of Canadian National Railway Company.

² IC originally filed its verified notice of exemption on January 8, 2009. However, the notice did not contain all of the information required under 49 CFR 1152.50. At the request of Board staff, on January 29, 2009, IC filed a supplement to its notice. Accordingly, January 29, 2009, will be considered the official filing date.

IC has certified that: (1) No local traffic has moved over the line for at least 2 years; (2) there is no overhead traffic to be rerouted over other lines; (3) no formal complaint filed by a user of rail service on the line (or by a state or local government entity acting on behalf of such user) regarding cessation of service over the line either is pending with the Surface Transportation Board (Board) or with any U.S. District Court or has been decided in favor of complainant within the 2-year period; and (4) the requirements at 49 CFR 1105.7 (environmental report), 49 CFR 1105.8 (historic report), 49 CFR 1105.11 (transmittal letter), 49 CFR 1105.12 (newspaper publication), and 49 CFR 1152.50(d)(1) (notice to governmental agencies) have been met.

As a condition to this exemption, any employee adversely affected by the abandonment shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on March 20, 2009, unless stayed pending reconsideration.³ Petitions to stay that do not involve environmental issues,⁴ formal expressions of intent to file an OFA under 49 CFR 1152.27(c)(2),⁵ and trail use/rail banking requests under 49 CFR 1152.29 must be filed by March 2, 2009.⁶ Petitions to reopen or requests for public use conditions under 49 CFR 1152.28 must be filed by March 10, 2009, with: Surface Transportation Board, 395 E Street, SW., Washington, DC 20423-0001.

³ Pursuant to 49 CFR 1152.50(d)(2), the railroad must file a verified notice with the Board at least 50 days before the abandonment or discontinuance is to be consummated. A Board staff member has informed IC that, because the official filing date of the notice is now January 29, 2009, consummation may not take place prior to March 20, 2009.

⁴ The Board will grant a stay if an informed decision on environmental issues (whether raised by a party or by the Board's Section of Environmental Analysis (SEA) in its independent investigation) cannot be made before the exemption's effective date. See Exemption of Out-of-Service Rail Lines, 5 I.C.C.2d 377 (1989). Any request for a stay should be filed as soon as possible so that the Board may take appropriate action before the exemption's effective date.

⁵ Effective July 18, 2008, the filing fee for an OFA increased to $1,500. See Regulations Governing Fees for Services Performed in Connection With Licensing and Related Services—2008 Update, STB Ex Parte No. 542 (Sub-No. 15) (STB served June 18, 2008).

⁶ IC notes, however, that it does not believe that the right-of-way would be of interest to the State of Mississippi or any other entity for public use because the right-of-way is situated in a developed urban area with a mature roadway system.

A copy of any petition filed with the Board should be sent to IC's representative: Thomas J. Healey, 17641 S. Ashland Avenue, Homewood, IL 60430-1345.

If the verified notice contains false or misleading information, the exemption is void ab initio.

IC has filed a combined environmental and historic report, which addresses the effects, if any, of the abandonment on the environment and historic resources. SEA will issue an environmental assessment (EA) by February 23, 2009. Interested persons may obtain a copy of the EA by writing to SEA (Room 1100, Surface Transportation Board, Washington, DC 20423-0001) or by calling SEA, at (202) 245-0305. [Assistance for the hearing impaired is available through the Federal Information Relay Service (FIRS) at 1-800-877-8339.] Comments on environmental and historic preservation matters must be filed within 15 days after the EA becomes available to the public.

Environmental, historic preservation, public use, or trail use/rail banking conditions will be imposed, where appropriate, in a subsequent decision.

Pursuant to the provisions of 49 CFR 1152.29(e)(2), IC shall file a notice of consummation with the Board to signify that it has exercised the authority granted and fully abandoned the line. If consummation has not been effected by IC's filing of a notice of consummation by February 18, 2010, and there are no legal or regulatory barriers to consummation, the authority to abandon will automatically expire.

Board decisions and notices are available on our Web site at “http://www.stb.dot.gov.”

Decided: February 10, 2009.
By the Board, David M. Konschnik, Director, Office of Proceedings.
Jeffrey Herzig,
Clearance Clerk.

[FR Doc. E9-3229 Filed 2-17-09; 8:45 am]

BILLING CODE 4915-01-P